DEPARTMENT OF THE INTERIOR

National Park Service

[NPS-WASO-NAGPRA-23306; PPWOCRADN0-PCU00RP14.R50000]

Notice of Intent To Repatriate Cultural Items: Arkansas Archeological Survey, Fayetteville, AR

AGENCY: National Park Service, Interior.

ACTION: Notice.

SUMMARY: The Arkansas Archeological Survey, in consultation with the appropriate Indian tribes or Native Hawaiian organizations, has determined that the cultural items listed in this notice meet the definition of unassociated funerary objects. Lineal descendants or representatives of any Indian tribe or Native Hawaiian organization not identified in this notice that wish to claim these cultural items should submit a written request to the Arkansas Archeological Survey. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arkansas Archeological Survey at the address in this notice by July 31, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3005, of the intent to repatriate cultural items under the control of the Arkansas Archeological Survey that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1972, three cultural items were removed from the Cryer Field site (3LA35) in Lafayette County, AR. The 3 unassociated funerary objects are one Handy Engraved bottle, one Washington Stamped jar, and one Pease Brushed-Incised jar (Cat. 72-406-68-1, 2, 3).

The pottery types are well-known examples of Caddo tradition wares. All are contemporaneous, ranging from A.D. 1300 to 1500, and are attributed to the Haley Phase of the Middle Caddo period. These pottery types are found throughout Southwest Arkansas, and into adjoining corners of Texas, Louisiana, and Oklahoma. All three cultural items were made before European contact and during the Caddo tradition.

The Caddo archeological tradition developed between A.D. 900 and 1000 in the four corners region of Arkansas, Texas, Louisiana, and Oklahoma. Distinctive characteristics include a dispersed residential settlement of families with a lifestyle grounded in farming and collecting wild plants and animals. The core of community life was a religious and political center with ceremonial and burial mounds, public areas for community events and rituals, and a small residential population believed to be religious and political leaders and their families. Caddo ceramics are highly distinctive with dual manufacturing traditions that produced both refined wares decorated with complex stylized incised and engraved designs and utilitarian wares with highly plastic incised, punctated, and brushed designs that are dominated by geometric motifs.

The Caddo continued to practice traditional settlement arrangements and material crafts well into the contact period. This is confirmed in part by past discoveries of distinctive Caddo ceramics and other artifacts found with European trade items in locations where French and Spanish observers documented their settlements. There is thus a strong material link between historic Caddo Tribal communities and pre-contact archeological remains. The collection enumerated here is entirely typical of pre-contact Caddo Tradition material culture.

Determinations Made by the Arkansas Archeological Survey

Officials of the Arkansas Archeological Survey have determined that:

• Pursuant to 25 U.S.C. 3001(3)(B), the 3 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Caddo Nation of Oklahoma.

Additional Requestors and Disposition

Lineal descendants or representatives of any Indian tribe or Native Hawaiian organization not identified in this notice that wish to claim these cultural items should submit a written request with information in support of the claim to Dr. George Sabo, Director, Arkansas Archeological Survey, 2475 North Hatch Avenue, Fayetteville, AR 72704, telephone (479) 575-3556 by July 31, 2017. After that date, if no additional claimants have come forward, transfer of control of the unassociated funerary objects to the Caddo Nation of Oklahoma may proceed.

The Arkansas Archeological Survey is responsible for notifying the Caddo Nation of Oklahoma that this notice has been published.

Dated: April 26, 2017.
Melanie O'Brien,
Program Manager.

[FR Doc. 2017-13742 Filed 6-29-17; 8:45 am]

BILLING CODE 4312-52-P